DEPARTMENT OF COMMERCE

National Oceanic and Atmospheric Administration

50 CFR Parts 223 and 224

[Docket No. 240520-0140; RTID 0648-XR135]

Endangered and Threatened Wildlife; 90-Day Finding on a Petition To List Gulf of Alaska Chinook Salmon as Threatened or Endangered Under the Endangered Species Act; Extension of Public Comment Period

AGENCY: National Marine Fisheries Service (NMFS), National Oceanic and Atmospheric Administration (NOAA), Commerce.

ACTION: Extension of public comment period.

SUMMARY: We, NMFS, announce the extension of the public comment period on our May 24, 2024, 90-day finding on a petition to list Gulf of Alaska (GOA) Chinook salmon (Oncorhynchus tshawytscha), or any evolutionarily significant unit (ESU) that may exist in the petitioned area, as a threatened or endangered species under the Endangered Species Act (ESA). As part of that finding, we solicited scientific and commercial information about the status of this population and announced a 60-day public comment period to end on July 23, 2024. Today, we extend the public comment period by 45 days until September 6, 2024.

DATES: The comment period for the 90-day finding published May 24, 2024, at 89 FR 45815, is extended. Comments should be received on or before September 6, 2024.

ADDRESSES: You may submit data and information relevant to our review of the status of GOA Chinook salmon, identified by “Gulf of Alaska Chinook salmon Petition” or by the docket number, NOAA-NMFS-2024-0042, by any of the following methods:

• Electronic Submissions: Submit all electronic public comments via the Federal eRulemaking Portal. Go to https://www.regulations.gov and enter NOAA-NMFS-2024-0042 in the Search box. Click on the “Comment” icon, complete the required fields, and enter or attach your comments.

• Mail: Submit written comments to Anne Marie Eich, Assistant Regional Administrator, Protected Resources Division, Alaska Region NMFS, Attn. Susan Meyer. Mail comments to P.O. Box 21668, Juneau, AK 99802.

Instructions: Comments sent by any other method, to any other address or individual, or received after the end of the comment period, may not be considered by NMFS. All comments received are a part of the public record and will generally be posted for public viewing on https://www.regulations.gov without change. All personal identifying information (e.g., name, address), confidential business information, or otherwise sensitive information submitted voluntarily by the sender will be publicly accessible. NMFS will accept anonymous comments (enter “N/A” in the required fields if you wish to remain anonymous).

The petition and 90-day finding are available on the NMFS website at: https://www.fisheries.noaa.gov/action/petition-list-gulf-alaska-chinook-salmon-threatened-or-endangered-under-endangered-species.

FOR FURTHER INFORMATION CONTACT: Julie Scheurer, NMFS Alaska Region, julie.scheurer@noaa.gov, (907) 586-7111; or Heather Austin, NMFS Office of Protected Resources, heather.austin@noaa.gov, (301) 427-8422.

SUPPLEMENTARY INFORMATION: On January 11, 2024, we received a petition from the Wild Fish Conservancy to delineate and list one or more ESUs of Chinook salmon in the GOA as threatened or endangered under the ESA, and to designate critical habitat concurrently with the listing. On May 24, 2024, NMFS announced a positive 90-day finding on a petition to list one or more ESUs of GOA Chinook salmon as threatened or endangered under the ESA, and commenced a status review of the species to determine whether one or more ESU warrants listing (89 FR 45815). To ensure that the status review is based on the best available scientific and commercial data, we solicited such information regarding this species and announced a 60-day public comment period through July 23, 2024.

On June 3, 2024, we received a request from the Alaska Department of Fish and Game (ADF&G) to extend the deadline for the public to provide comments until at least September 6, 2024. ADF&G noted that the comment period coincides and conflicts with the summer fishing and field season and may not allow sufficient time for interested parties to submit information for the broad geographic area under review. At the June 2024 meeting of the North Pacific Fishery Management Council, representatives from several fishing organizations also requested through public testimony an extension of the public comment period for this action, and we subsequently received a written request from the Council. In response, we are extending the close of the public comment period until September 6, 2024. Although we have extended the comment period by 45 days, we are unable to extend the statutory deadline for completing the status review and publishing a 12-month finding under the ESA. As such, we urge interested parties to submit their comments and data as soon as possible to allow us more time to review and incorporate the information where appropriate.

Authority: 16 U.S.C. 1531 et seq.

Dated: June 24, 2024.
Samuel D. Rauch, III,
Deputy Assistant Administrator for Regulatory Programs, National Marine Fisheries Service.

[FR Doc. 2024-14169 Filed 6-27-24; 8:45 am]

BILLING CODE 3510-22-P